NATIONAL AERONAUTICS AND SPACE ADMINISTRATION

14 CFR Part 1204

[NASA Docket No: 2014-0003]

RIN 2700-AD95

Delegations and Designations

AGENCY: National Aeronautics and Space Administration.

ACTION: Direct final rule.

SUMMARY: This direct final rule makes nonsubstantive changes to correct citations and titles throughout. The revisions to this rule are part of NASA's retrospective plan under EO 13563 completed in August 2011. NASA's full plan can be accessed on the Agency's open Government Web site at http://www.nasa.gov/open/.

DATES: This direct final rule is effective on April 29, 2014. Comments due on or before March 31, 2014. If adverse comments are received, NASA will publish a timely withdrawal of the rule in the Federal Register.

ADDRESSES: Comments must be identified with RINs 2700-AD95 and may be sent to NASA via the Federal E-Rulemaking Portal: http://www.regulations.gov. Follow the online instructions for submitting comments. Please note that NASA will post all comments on the Internet with changes, including any personal information provided.

FOR FURTHER INFORMATION CONTACT: Calvin Williams, 202-358-2322.

SUPPLEMENTARY INFORMATION:

Direct Final Rule and Significant Adverse Comments

NASA has determined that this rulemaking meets the criteria for a direct final rule because it makes nonsubstantive changes to correct citations and titles. No opposition to the changes and no significant adverse comments are expected. However, if NASA receives significant adverse comments, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

Background

Subpart 5 of part 1204, promulgated March 13, 1995 [30 FR 3378], establishes delegations and designations for NASA officials and other Government agencies acting on behalf of the Agency to carry out functions related to real estate and related matters, granting easements, leaseholds, permits, and licenses in real property, executing certificates of full faith and credit, and taking actions on liquidated damage. Sections 1204.501, 1204.503-1204.504, 1204.509 will be amended to correct citations and titles.

Statutory Authority

The National Aeronautics and Space Act (the Space Act), 51 U.S.C. 20113 (a), authorizes the Administrator of NASA to make, promulgate, issue, rescind, and amend rules and regulations governing the manner of its operations and the exercise of the powers vested in it by law.

Regulatory Analysis

Executive Order 12866, Regulatory Planning and Review and Executive Order 13563, Improvement Regulation and Regulation Review

Executive Orders 13563 and 12866 direct agencies to assess all costs and benefits of available regulatory alternatives and, if regulation is necessary, to select regulatory approaches that maximize net benefits (including potential economic, environmental, public health and safety effects, distributive impacts, and equity). EO 13563 emphasizes the importance of quantifying both costs and benefits, of reducing costs, of harmonizing rules, and of promoting flexibility. This rule has been designated as “not significant” under section 3(f) of EO 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule removes one section from Title 14 of the CFR and, therefore, does not have a significant economic impact on a substantial number of small entities.

Review Under the Paperwork Reduction Act

This direct final rule does not contain any information collection requirements subject to the Paperwork Reduction Act of 1995 (44 U.S.C. 3501 et seq.).

Review Under EO 13132

EO 13132, “Federalism,” 64 FR 43255 (August 4, 1999) requires regulations be reviewed for Federalism effects on the institutional interest of states and local Governments and, if the effects are sufficiently substantial, preparation of the Federal assessment is required to assist senior policy makers. The amendments will not have any substantial direct effects on state and local Governments within the meaning of the EO. Therefore, no Federalism assessment is required.

List of subjects in 14 CFR Part 1204

Authority delegation.

Accordingly, under the authority of the National Aeronautics and Space Act, as amended, U.S.C. 20113, NASA amends 14 CFR part 1204 as follows:

PART 1204—ADMINISTRATIVE AUTHORITY AND POLICY

1. The authority citation for part 1204 continues to read as follows:

Authority: 42 U.S.C. 2473(c)(5); 42 U.S.C. 2473b; Pub. L. 101-507, the VA/HUD/Indep. Agencies Appropriation Act for FY 1991, at 104 Stat. 1380 (Nov. 5, 1990); and 15 U.S.C. 631-650.

§ 1204.501 [Amended]

2. Amend § 1204.501 by removing the word “Associate” and adding in its place the word “Assistant,” removing the words “Management Systems and Facilities” and adding in their place the words “Strategic Infrastructure,” and removing the words “Facilities Engineering” and adding in their place the words “Integrated Asset Management.”.

§ 1204.503 [Amended]

3. Amend § 1204.503 as follows:

a. In paragraph (b), remove the word “Associate” and add in its place the word “Assistant,” remove the words “Management Systems and Facilities” and add in their place the words “Strategic Infrastructure,” and remove the words “Facilities Engineering” and add in its place the words “Integrated Asset Management.”

b. In paragraph (e)(1), remove the words “The Directors of Field Installations” and add in their place the words “NASA Center Directors.”

c. In paragraph (e)(2), remove the words “The Directors of Field Installations” and add in their place the words “NASA Center Directors” and remove the words “field installation” in the second occurrence and add in their place the word “Center.”

d. In paragraph (f)(1), remove the words “Director of the Field Installation” and add in their place the words “Center Director.”

e. In paragraphs (f)(3)(i)(D), remove the word “Associate” and add in its place the word “Assistant,” remove the words “Management Systems and Facilities” and add in their place the words “Strategic Infrastructure,” remove the words “Facilities Engineering” and add in their place the words “Integrated Asset Management,” and remove the words “Director of the Field Installation” and add in their place the words “Center Director.”

f. In paragraph (f)(3)(ii), remove the word “Associate” and add in its place the word “Assistant,” remove the words “Management Systems and Facilities” and add in their place the words “Strategic Infrastructure,” remove the words “Facilities Engineering” and add in their place the words “Integrated Asset Management,” and remove the words “Director of the Field Installation” and add in their place the words “Center Director.”

g. In paragraph (g), remove the words “Director of a Field Installation” and add in their place the words “Center Director,” remove the word “Associate” and add in its place the word “Assistant,” remove the words “Management Systems and Facilities” and add in their place the words “Strategic Infrastructure,” and remove the words “Facilities Engineering” and add in their place the words “Integrated Asset Management.”

h. In paragraph (h), remove the words “Directors of Field Installations” and add in their place the words “Center Directors.”

i. In paragraph (i), remove the words “Facilities Operations and Maintenance Branch (Code JXG)” and add in their place the words “Office of Strategic Infrastructure,” and remove the words “Facilities Engineering” and add in their place the words “Integrated Asset Management.”

§ 1204.504 [Amended]

4. Amend § 1204.504 as follows:

a. In paragraph (a), remove the word “Associate” and add in its place the word “Assistant,” remove the words “Management Systems and Facilities” and add in their place the words “Strategic Infrastructure,” and add the words “and Real Property” before the word “Division.”

b. In paragraph (d)(1), remove the words “The Directors of Field Installations” and add in their place the words “Center Directors,” remove the words “(i) excess within the meaning of 40 U.S.C. 472(c) or (ii),” and remove the words “NASA Management Instruction 9050.6, NASA Exchange Activities” and add in their place the words “NASA Policy Directive 9050.6, NASA Exchange and Morale Support Activities.”

c. In paragraph (d)(2), remove the words “The Directors of Field Installations” and add in their place the words “Center Directors” and remove the words “Field Installation” and add in their place the words “NASA Center.”

d. In paragraph (e)(1), remove the words “Director of the Field Installation” and add in their place the words “Center Director.”

e. In paragraph (e)(3)(ii)(B), remove the word “Associate” and add in its place the word “Assistant, ” remove the words “Management Systems and Facilities” and add in their place the words “Strategic Infrastructure,” remove the words “Facilities Engineering” and add in their place the words “Integrated Asset Management,” and remove the words “Director of the Field Installation” and add in their place the words “Center Director.”

f. In paragraph (e)(3)(iii), remove the word “Associate ” and add in its place the word “Assistant,” remove the words “Management Systems and Facilities” and add in their place the words “Strategic Infrastructure,” remove the words “Facilities Engineering” and add in their place the words “Integrated Asset Management,” and remove the words “Director of the Field Installation” and add in their place the words “Center Director.”

g. In paragraph (f), remove the words “Director of a Field Installation” and add in their place the words “Center Director,” remove the words “Assistant” and add in its place the word “Associate,” remove the words “Management Systems and Facilities” and add in their place the words “Strategic Infrastructure,” remove the words “Facilities Engineering” and add in their place the words “Integrated Asset Management.”

h. In paragraph (g), remove the words “the Directors of Field Installations” and add in their place the words “NASA Center Directors.”

i. In paragraph (h), remove the words “Administrator, Facilities Operations and Maintenance Branch (Code JXG), Facilities Engineering Division, Assistant” and add in their place the words “Administration, Office of Strategic Infrastructure.”

§ 1204.505 [Amended]

5. In § 1204.505, amend paragraph (b) by removing the words “(Office of the Administrator section of NASA Form 955).”

§ 1204.509 [Amended]

6. In § 1204.509, amend paragraph (a) by removing the words “Director, Industrial Relations Office” and adding in their place the words “Assistant Administrator, Office of Strategic Infrastructure” and removing the misspelled word “Conract” and adding in its place the word “Contract.”

Charles F. Bolden, Jr.,
Administrator.

[FR Doc. 2014-03295 Filed 2-27-14; 8:45 am]

BILLING CODE 7510-13-P